DEPARTMENT OF JUSTICE

Antitrust Division

Notice Pursuant to the National Cooperative Research and Production Act of 1993—Unified Abrasive Manufacturers Association

Notice is hereby given that, on September 17, 2004, pursuant to section 6(a) of the National Cooperative Research and Production Act of 1993, 15 U.S.C. 4301 et seq. (“the Act”), Unified Abrasive Manufacturers Association (“UAMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Unified Abrasive Manufacturers Association, Cleveland, OH. The nature and scope of UAMA's standards development activities are: UAMA acts as secretariat for two ANSI accredited standards committees which develop (1) specifications for safety in the use of bonded, coated and loose abrasives, excluding natural sandstones, including safety requirements for abrasive products, abrasive machines and accessories, and requirements for the proper storage, handling and mounting of abrasive products; and (2) identification and dimensional standards and standard test methods for bonded, coated and loose abrasive in the natural and manufactured categories.

Dorothy B. Fountain,
Deputy Director of Operations, Antitrust Division.

[FR Doc. 04-25859 Filed 11-19-04; 8:45 am]

BILLING CODE 4410-11-M